NATIONAL SCIENCE FOUNDATION

Notice of Permits Issued Under the Antarctic Conservation Act of 1978

AGENCY: National Science Foundation.

ACTION: Notice of permit issued.

SUMMARY: The National Science Foundation (NSF) is required to publish notice of permits issued under the Antarctic Conservation Act of 1978. This is the required notice.

FOR FURTHER INFORMATION CONTACT: Nature McGinn, ACA Permit Officer, Office of Polar Programs, National Science Foundation, 2415 Eisenhower Avenue, Alexandria, VA 22314; 703-292-8030; email: ACApermits@nsf.gov.

SUPPLEMENTARY INFORMATION: On September 12, 2018, the National Science Foundation published a notice in the Federal Register of a permit application received. The permit was issued on October 29, 2018 to:

Bill Davis, Permit No. 2019-005

Suzanne H. Plimpton,
Reports Clearance Officer, National Science Foundation.

[FR Doc. 2018-25646 Filed 11-23-18; 8:45 am]

BILLING CODE 7555-01-P